DEPARTMENT OF THE INTERIOR

National Park Service

Environmental Statements; Availability, etc: Tallgrass Prairie National Preserve, KS

AGENCY: National Park Service, Interior.

ACTION: Notice of availability of the final general management plan/final environmental impact statement for the Tallgrass Prairie National Preserve, Kansas.

SUMMARY: Pursuant to section 102(2) of the National Environmental Policy Act of 1969, the National Park Service announces the availability of the final general management plan/final environmental impact statement (FGMP/FEIS) for the Tallgrass Prairie National Preserve.

DATES: The no-action period on this FEIS will expire 30 days after the Environmental Protection Agency has published a notice of availability of the FEIS in the Federal Register, or on November 20, 2000, whichever is later.

ADDRESSES: Copies of the FGMP/FEIS are available by request by writing the Tallgrass Prairie National Preserve, P.O. Box 585, Cottonwood Falls, KS 66845, by phone 316-273-6034, or by e-mail from TAPR_Superintendent@nps.gov. The document can be picked-up in person or viewed at the Tallgrass National Preserve administrative headquarters, 226 Broadway, Cottonwood Falls, KS. The document also can be downloaded from the Internet at: www.nps.gov/tapr/gmp/gmp.pdf

FOR FURTHER INFORMATION CONTACT: Superintendent, Tallgrass Prairie National Preserve, at the address and telephone number listed above.

SUPPLEMENTARY INFORMATION: The purpose of the general management plan is to set forth the basic management philosophy for the Preserve and to provide the strategies for addressing issues and achieving identified management objectives. The FGMP/FEIS describes and analyzes the environmental impacts of a proposed action and four action alternatives for the future management direction of the Preserve. A no action alternative also is evaluated.

The draft general management plan and draft environmental impact statement (DGMP/DEIS) for this action was released for public review in November 1999 (see Federal Register, 64 FR 66641) and the public comment period closed on January 25, 2000.

Modifications to the DGMP/DEIS have been made based on public comment received and further impact analysis.

The responsible official is Mr. William Schenk, Midwest Regional Director, National Park Service.

Dated: October 4, 2000.
William W. Schenk,
Regional Director, Midwest Region.

[FR Doc. 00-26144 Filed 10-11-00; 8:45 am]

BILLING CODE 4310-70-P